DEPARTMENT OF THE INTERIOR

National Park Service

[NPS-WASO-NAGPRA-NPS0033141; PPWOCRADN0-PCU00RP14.R50000]

Notice of Inventory Completion: Fowler Museum at the University of California Los Angeles, Los Angeles, CA

AGENCY: National Park Service, Interior.

ACTION: Notice.

SUMMARY: The Fowler Museum at the University of California Los Angeles (Fowler Museum at UCLA) has completed an inventory of human remains, in consultation with the appropriate Indian tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Fowler Museum at UCLA. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Fowler Museum at UCLA at the address in this notice by January 18, 2022.

FOR FURTHER INFORMATION CONTACT: Wendy G Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains under the control of the Fowler Museum at the University of California Los Angeles, Los Angeles, CA. The human remains and associated funerary objects were removed from San Luis Obispo County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Fowler Museum at UCLA professional staff in consultation with representatives of the Santa Ynez Band of Chumash Mission Indians of the Santa Ynez Reservation, California and three non-federally recognized Indian groups: The Barbareño/Ventureño Band of Mission Indians, Coastal Band of the Chumash Nation, and the yak tityu tityu yak tiłhini—Northern Chumash Tribe (hereafter referred to as “The Consulted Tribe and Groups”).

History and Description of the Remains

In 1958, human remains representing, at minimum, one individual was removed from the surface of site SLO-237 near Arroyo Grande Creek, in San Luis Obispo County, CA. Excavations in preparation for a planned dam were conducted on private land by William Wallace of the University of Southern California (U.S.C.) at the request of the National Park Service. Sixty-nine archeological sites were identified through survey, and seven of them were further tested with 5′ x 5′ excavation pits. The collection was originally at U.S.C., but it was transferred to UCLA and accessioned (no. 449) when William Wallace retired in 1964. The site dates to the Late Period (A.D. 1300-1500). The human remains consist of the fragmentary left ulna belonging to an adult of unidentified sex. No known individual was identified. No associated funerary objects were either identified or collected.

Through consultation, and consistent with ethnographic and historic documentation, the Fowler Museum has determined that SLO-237 lies within the traditional territory of the Chumash. Because the same range of artifact types and materials were used from the early pre-contact period until historic times, many local archeologists assert that any changes in the material culture of the earlier groups living in this area over the past 10,000 years reflect evolving ecological adaptations and related changes in social organization of the same populations, rather than population displacement or movement. Moreover, Native consultants explicitly state that, while population mixing did occur on a small scale, it would not have altered the continuity of the shared group identities of people associated with specific locales. Based on this evidence, shared group identity may reasonably be traced between the earlier group at these sites and present-day Chumash people.

Determinations Made by the Fowler Museum at the University of California Los Angeles

Officials of the Fowler Museum at the University of the California Los Angeles have determined that:

• Pursuant to 25 U.S.C. 3001(9), the human remains described in this notice represent the physical remains of one individual of Native American ancestry.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian Tribe or Native Hawaiian organization not identified in this notice that wish to request transfer of control of these human remains should submit a written request with information in support of the request to Wendy G. Teeter, Ph.D., Fowler Museum at UCLA, Box 951549, Los Angeles, CA 90095-1549, telephone (310) 825-1864, email wteeter@arts.ucla.edu, by January 18, 2022. After that date, if no additional requestors have come forward, transfer of control of the human remains to the Santa Ynez Band of Chumash Mission Indians of the Santa Ynez Reservation, California may proceed.

The Fowler Museum at the University of the California Los Angeles is responsible for notifying The Consulted Tribe and Groups that this notice has been published.

Dated: December 10, 2021.
Melanie O'Brien,
Manager, National NAGPRA Program.

[FR Doc. 2021-27358 Filed 12-16-21; 8:45 am]

BILLING CODE 4312-52-P